DEPARTMENT OF LABOR

Employment and Training Administration

[TA-W-38,921]

Glenshaw Glass Company, Glenshaw, PA; Notice of Revised Determination on Reconsideration

On November 30, 2001, the Department issued an Affirmative Determination Regarding Application for Reconsideration for the workers and former workers of the subject firm. The notice was published in the Federal Register on December 26, 2001 (66 FR 66430).

The Department initially denied TAA to workers of Glenshaw Glass Company, Inc., Glenshaw, Pennsylvania based on criterion (3) of the group eligibility requirements of section 222 of the Trade Act of 1974, as amended, not being met. Increased imports did not contribute importantly to worker separations at the subject firm. The workers at the subject firm were engaged in employment related to the production of glass containers.

The Department of Labor investigated the allegations made by the applicant that imports of glass containers contributed importantly to the terminations at the subject firm.

The Department of Labor conducted a sample survey of the major declining customers regarding their purchases of glass containers during the relevant period. The survey revealed that respondents increased their reliance on imported glass containers during the relevant period.

Conclusion

After careful consideration of the new facts obtained on reconsideration, it is concluded that increased imports of glass containers, contributed importantly to the decline in production and to the total or partial separation of workers at Glenshaw Glass Company, Inc., Glenshaw, Pennsylvania. In accordance with the provisions of the Act, I make the following revised determination:

Workers of Glenshaw Glass Company, Inc., Glenshaw, Pennsylvania, who became totally or partially separated from employment on or after March 12, 2000 through two years from the date of this certification, are eligible to apply for adjustment assistance under assistance under Section 223 of the Trade Act of 1974.

Signed in Washington, DC this 19th day of February 2002.
Edward A. Tomchick,
Director, Division of Trade Adjustment Assistance.

[FR Doc. 02-5584 Filed 3-7-02; 8:45 am]

BILLING CODE 4510-30-M